DEPARTMENT OF HEALTH AND HUMAN SERVICES

Centers for Disease Control and Prevention

[30Day-13-13EP]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Million Hearts® Hypertension Control Challenge—New—National Center for Chronic Disease Prevention and Health Promotion (NCCDPHP), Centers for Disease Control and Prevention (CDC).

Background and Brief Description

CDC proposes to launch the Million Hearts® Hypertension Control Challenge to identify clinical practices and health systems that have been successful in achieving high rates of hypertension control and to develop models for dissemination. The most successful clinical practices or health plans will be recognized as Million Hearts® Hypertension Control Champions.

CDC requests OMB approval to collect the information needed to identify, qualify, and rank applicants for recognition through the Million Hearts® Hypertension Control Challenge. Interested providers or clinical programs voluntarily self-nominate their practice or healthcare system by completing a web-based nomination form located on the Challenge.gov web portal. The nomination process will include submission of the minimum amount of data needed to provide evidence of clinical success in achieving hypertension control, including: (a) Two point-in-time measures of the clinical hypertension control rate for the patient population, (b) the size of the clinic population served, and (c) a description of the sustainable systems adopted to achieve hypertension control rates.

CDC scientists or contractors will assign a preliminary score to each submitted nomination form. Those with the highest preliminary scores will be further reviewed by a CDC-sponsored panel of three to five experts in hypertension control. The panel will provide CDC with a ranked list of nominees.

Finalists will be asked to participate in a data verification process that includes verification of how information was obtained from electronic records, remote electronic record or chart review, on-site review, or verification with other sources. Finalists may be eliminated based on the results of data verification.

Each remaining finalist, or Champion, will be asked to participate in a semi-structured interview. The interview will provide detailed information about the strategies employed by the practice or health system to achieve exemplary rates of hypertension control, including barriers and facilitators for those strategies.

OMB approval is requested for three years to support three annual Challenges.

There are no costs to respondents other than their time. The total estimated burden hours are 958.

Estimated Annualized Burden Hours
Type of respondent | Form name | Number of respondents | Number of responses per respondent | Average burden per response (in hrs)
Physicians (Single or Group Practices or Health System) | Million Hearts® Hypertension Control Champion Nomination Form | 1,735 | 1 | .5
Finalists | Million Hearts® Hypertension Control Champion Data Verification Form | 30 | 1 | 1
Selected Champion | Interview Guide: Million Hearts® Hypertension Control Champion | 30 | 1 | 2

Ron A. Otten,
Director, Office of Scientific Integrity, Office of the Associate Director for Science, Office of the Director, Centers for Disease Control and Prevention.

[FR Doc. 2013-11059 Filed 5-9-13; 8:45 am]

BILLING CODE 4163-18-P